DEPARTMENT OF ENERGY

Federal Energy Regulatory Commission

Combined Notice Of Filings #1

Take notice that the Commission received the following exempt wholesale generator filings:

Docket Numbers: EG15-97-000.

Applicants: Route 66 Wind Power, LLC.

Description: Notice of Self-Certification of Exempt Wholesale Generator Status of Route 66 Wind Power, LLC.

Filed Date: 6/17/15.

Accession Number: 20150617-5235.

Comments Due: 5 p.m. ET 7/8/15.

Take notice that the Commission received the following electric rate filings:

Docket Numbers: ER15-1937-000.

Applicants: PJM Interconnection, L.L.C., Old Dominion Electric Cooperative.

Description: § 205(d) Rate Filing: Second Revised Service Agreement No. 3746—NITSA between PJM and ODEC to be effective 6/1/2015.

Filed Date: 6/17/15.

Accession Number: 20150617-5248.

Comments Due: 5 p.m. ET 7/8/15.

Docket Numbers: ER15-1938-000.

Applicants: PJM Interconnection, L.L.C.

Description: § 205(d) Rate Filing: Original WMPA Service Agreement No. 4183; Queue No. Z2-105 to be effective 10/31/2014.

Filed Date: 6/17/15.

Accession Number: 20150617-5266.

Comments Due: 5 p.m. ET 7/8/15.

Docket Numbers: ER15-1939-000.

Applicants: Southwest Power Pool, Inc.

Description: § 205(d) Rate Filing: 3050 Sunwind Energy Group GIA to be effective 6/3/2015.

Filed Date: 6/17/15.

Accession Number: 20150617-5267.

Comments Due: 5 p.m. ET 7/8/15.

Docket Numbers: ER15-1940-000.

Applicants: PJM Interconnection, L.L.C.

Description: § 205(d) Rate Filing: Service Agreement No. 4184; Queue No. Z2-106 to be effective 10/31/2014.

Filed Date: 6/17/15.

Accession Number: 20150617-5268.

Comments Due: 5 p.m. ET 7/8/15.

Docket Numbers: ER15-1941-000.

Applicants: Barclays Bank PLC.

Description: Notice of Cancellation of Market Based Rate Tariff of Barclays Bank PLC.

Filed Date: 6/17/15.

Accession Number: 20150617-5294.

Comments Due: 5 p.m. ET 7/8/15.

Docket Numbers: ER15-1942-000.

Applicants: Barclays Capital Energy Inc.

Description: Notice of Cancellation of Market Based Rate Tariff of Barclays Capital Energy Inc.

Filed Date: 6/17/15.

Accession Number: 20150617-5295.

Comments Due: 5 p.m. ET 7/8/15.

Take notice that the Commission received the following electric securities filings:

Docket Numbers: ES15-33-000.

Applicants: Northern Indiana Public Service Company.

Description: Supplement to June 10, 2015 Application for Authorization to Issue Short-Term Debt of Northern Indiana Public Service Company.

Filed Date: 6/17/15.

Accession Number: 20150617-5272.

Comments Due: 5 p.m. ET 7/1/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 18, 2015.
Kimberly D. Bose,
Secretary.

[FR Doc. 2015-15487 Filed 6-23-15; 8:45 am]

BILLING CODE 6717-01-P